DEPARTMENT OF THE INTERIOR

Fish and Wildlife Service

Preparation of an Environmental Impact Statement for the Paiute Cutthroat Trout Restoration Project, Carson-Iceberg Wilderness, Humboldt-Toiyabe National Forest, Alpine County, CA

AGENCY: Fish and Wildlife Service, Interior.

ACTION: Notice of intent of public scoping.

SUMMARY: Pursuant to the National Environmental Policy Act (NEPA) (42 U.S.C. 4321, et seq.), the Fish and Wildlife Service (Service) as the lead agency, advises the public that we intend to gather information necessary to prepare, in cooperation with the United States Department of Agriculture Forest Service (Forest Service), an Environmental Impact Statement (EIS) on the proposed Paiute Cutthroat Trout Restoration Project (Project). The Forest Service is a cooperating agency because activities within designated wilderness on National Forest System lands require Forest Service approval (36 CFR 261.9f, 293.6c).

The Service provides this notice to: (1) Describe the proposed action and possible alternatives; (2) advise other Federal and State agencies, affected Tribes, and the public of our intent to prepare an EIS; (3) announce the initiation of a 30-day public scoping period; and (4) obtain suggestions and information on the scope of issues and alternatives to be included in the EIS.

DATES: A public meeting will be held on: June 19, 2006 from 4 to 7 p.m. Written comments should be received on or before July 3, 2006.

ADDRESSES: The public meeting will be held at Turtle Rock Park Community Center 17300 State Route 89 Markleeville, California 96120. Information, written comments, or questions related to the preparation of the EIS and the NEPA process should be submitted to Robert D. Williams, Field Supervisor, Fish and Wildlife Service, Nevada Fish and Wildlife Office, 1340 Financial Boulevard, Suite 234, Reno, Nevada 89502; or FAX (775) 861-6301. Comments may be submitted electronically to fw8pctcomments@fws.gov.

FOR FURTHER INFORMATION CONTACT: Chad Mellison (See ADDRESSES) at (775) 861-6300.

SUPPLEMENTARY INFORMATION:

Reasonable Accommodation

Persons needing reasonable accommodations in order to attend and participate in the public meeting should contact Chad Mellison (See ADDRESSES) at (775) 861-6300 as soon as possible. In order to allow sufficient time to process requests, please call no later than one week before the public meeting. Information regarding this proposed action is available in alternative formats upon request.

Authority

This action is done in accordance with Recovery implementation section 4(f)(2) of the Endangered Species Act of 1973, as amended (ESA).

Background

At the time of its original listing as endangered under the Endangered Species Protection Act of 1966, non-native trout were considered a threat to the Paiute cutthroat trout (PCT; Oncorhynchus clarki seleniris). In 1975, PCT were reclassified as threatened under the Endangered Species Act of 1973, and a 4(d) rule was issued to facilitate management between California Department of Fish and Game and the Service. In order to recover the subspecies, non-native trout need to be removed from their historic habitat and PCT reintroduced as specified in the 2004 Revised PCT Recovery Plan. Without this project, PCT in the Silver King drainage will continue to be at risk from an illegal introduction of non-native trout and/or stochastic (one time) events such as a large fire or flood. Recovery of the species cannot be achieved without this project and the long-term survival of the species will be in doubt.

We propose to eradicate non-native trout with the piscicide rotenone from 14.7 kilometers (9.1 miles) of historic PCT habitat, in Silver King Creek, from Llewellyn Falls downstream to Silver King Canyon as well as the accessible reaches of three small named tributaries: Tamarack Creek, Tamarack Lake Creek, the lower reaches of Coyote Valley Creek downstream of barrier falls, and Tamarack Lake.

Environmental Impact Statement

The Service has selected Entrix to prepare the EIS. Entrix will prepare the EIS under the supervision of the Service, which will be responsible for the scope and content of the NEPA document.

NEPA (42 U.S.C. 4321 et seq.) requires that Federal agencies conduct and environmental analysis of their proposed actions to determine if the actions may significantly affect the human environment. Under NEPA, a reasonable range of alternatives to proposed projects is developed and considered in the Services' environmental review. Alternatives considered for analysis in an EIS may include: Variations in the scope of proposed activities; variations in the location, amount, and types of conservation; variations in activity duration; or, a combination of these elements. In addition, the EIS will identify potentially significant direct, indirect, and cumulative impacts on biological resources, land use, air quality, water quality, water resources, socio-economics, and other environmental issues that could occur with the implementation of the proposed action and alternatives. For all potentially significant impacts, the EIS will identify avoidance, minimization, and mitigation measures to reduce these impacts, where feasible, to a level below significance.

The EIS will consider the proposed action, no action, and a reasonable range of alternatives. A detailed description of the impacts of the proposed action and each alternative will be included in the EIS. The alternatives to be considered for analysis in the EIS may include: Various fish removal methods; variations in timing; or, a combination of these elements.

Request for Comments

The primary purpose of the scoping process is for the public to assist the Services in developing the EIS by identifying important issues and alternatives related to the proposed action. A public meeting will be held on June 19, 2006 as noted in the DATES section above.

Written comments from interested parties are welcome to ensure that the full range of issues related to the proposed action are identified.

All comments and materials received, including names and addresses, will become part of the administrative record and may be released to the public.

Comments and materials received will be available for public inspection, by appointment, during normal business hours at the office listed in the ADDRESSES section of this notice.

The Service requests that comments be specific. In particular, we request information regarding: Direct, indirect, and cumulative impacts of implementation of the proposed action; other possible alternatives that meet the purpose and need; potential adaptive management and/or monitoring provisions; existing environmental conditions in the project area; other plans or projects that might be relevant to this proposed project; and minimization and mitigation efforts.

The environmental review of this project will be conducted in accordance with the requirements of the NEPA of 1969 as amended (42 U.S.C. 4321 et seq.), Council on the Environmental Quality Regulations (40 CFR parts 1500-1518), other applicable Federal laws and regulations, and applicable policies and procedures of the Services. This notice is being furnished in accordance with 40 CFR 1501.7 to obtain suggestions and information from other agencies and the public on the scope of issues and alternatives to be addressed in the EIS.

Dated: May 23, 2006.
John Engbring,
Acting Deputy Manager, California/Nevada Operations Office, Sacramento, California.

[FR Doc. 06-4918 Filed 6-1-06; 8:45 am]

BILLING CODE 4310-55-P